DEPARTMENT OF COMMERCE

National Oceanic and Atmospheric Administration

[RTID 0648-XB213]

Marine Mammals; File No. 24054

AGENCY: National Marine Fisheries Service (NMFS), National Oceanic and Atmospheric Administration (NOAA), Commerce.

ACTION: Notice; receipt of application.

SUMMARY: Notice is hereby given that Terrie Williams, Ph.D., University of California at Santa Cruz, Long Marine Lab, Center for Ocean Health, 115 McAllister Way, Santa Cruz, CA 95060, has applied in due form for a permit to conduct research on captive marine mammals.

DATES: Written, telefaxed, or email comments must be received on or before August 9, 2021.

ADDRESSES: The application and related documents are available for review by selecting “Records Open for Public Comment” from the “Features” box on the Applications and Permits for Protected Species (APPS) home page, https://apps.nmfs.noaa.gov, and then selecting File No. 24054 from the list of available applications. These documents are also available upon written request via email to NMFS.Pr1Comments@noaa.gov.

Written comments on this application should be submitted via email to NMFS.Pr1Comments@noaa.gov. Please include File No. 24054 in the subject line of the email comment.

Those individuals requesting a public hearing should submit a written request via email to NMFS.Pr1Comments@noaa.gov. The request should set forth the specific reasons why a hearing on this application would be appropriate.

FOR FURTHER INFORMATION CONTACT: Jennifer Skidmore or Courtney Smith, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant is requesting a permit to continue research activities to compare the energetic and cardiovascular responses and diving physiology of captive cetaceans and pinnipeds to determine key biological capabilities. A maximum of 4 dolphins (Tursiops truncatus), 10 California sea lions (Zalophus californianus), and 3 Hawaiian monk seals (Neomonachus schauinslandi) would be maintained and participate in the research at Long Marine Laboratory at any given time. Up to 60 bottlenose dolphins from the U.S. Navy, and up to 10 Hawaiian monk seals and 1 non-releasable Cook Inlet beluga whale (Delphinapterus leucas) at other permitted facilities may also participate in the research at their respective facilities.

Other species in rehabilitation status may also be added opportunistically and transported to Long Marine Laboratory for research purposes (up to 10 species per year with less than 6 animals onsite at a time). Typical rehabilitation species are bottlenose dolphins, harbor porpoises (Phocoena phocoena), Guadalupe fur seals (Arctocephalus townsendi), and Northern fur seals (Callorhinus ursinus), among others.

Research methods include training for voluntary participation to the maximum extent feasible to (1) assess body condition and morphometrics, (2) measure metabolic rate, (3) sample blood, (4) attach instruments (e.g., ECG/accelerometer), (5) monitor tissue blood flow via a portable near-infrared spectroscopy, heat flux tags, and ultrasound, (6) measure heat flow, and skin or body temperature (see application for details by method). In addition, receipt, import, and export activities are requested for marine mammal parts from up to 140 individuals per taxon group (pinniped and cetacean) world-wide. The permit is requested for the maximum duration of 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 2, 2021.
Julia Marie Harrison,
Chief, Permits and Conservation Division, Office of Protected Resources, National Marine Fisheries Service.

[FR Doc. 2021-14548 Filed 7-7-21; 8:45 am]

BILLING CODE 3510-22-P